DEPARTMENT OF THE INTERIOR

National Park Service

National Park System Advisory Board; Meeting

AGENCY: National Park Service, Interior.

ACTION: Notice of meeting.

Notice is hereby given in accordance with the Federal Advisory Committee Act, 5 U.S.C. Appendix, that the National Park System Advisory Board will conduct a public meeting by teleconference on May 29, 2002, from 3 p.m. to 4 p.m., Eastern Standard Time, inclusive. Members of the public may attend the meeting in person at two locations: (1) In Washington, DC, at the Jury's Hotel, Burlington Ballroom, 1500 New Hampshire Avenue, NW., Washington, DC 20036; and in Homestead, Florida, at Biscayne National Park, the Headquarters Building, 9700 SW 328th Street, Homestead, Florida 33090. The meeting is open to the public. During this teleconference, the National Park System Advisory Board will receive and discuss the final report of its Stiltsville Committee concerning the proposed disposition of seven structures known collectively as “Stiltsville” and located within the waters of Biscayne National Park. Information about Stiltsville can be found on Biscayne National Park's website at www.nps.gov/bisc. For copies of the committee report, please contact Shirley Sears Smith, Office of Policy, National Park Service, at 202-208-7456.

Opportunities for oral comment will be limited to no more than 3 minutes per speaker and no more than 15 minutes total. The Board's chairman will determine how time for oral comments will be allocated. Anyone who wishes further information concerning the meeting, or who wishes to submit a written statement, may contact Mr. Loran Fraser (202-208-7456), Office of Policy, National Park Service, 1849 C Street, NW., Washington, DC 20240.

Draft minutes of the meeting will be available for public inspection about 12 weeks after the meeting, in room 2414, Main Interior Building, 1849 C Street, NW., Washington, DC.

Dated: May 10, 2002.
P. Daniel Smith,
Special Assistant to the Director.

[FR Doc. 02-12315 Filed 5-15-02; 8:45 am]

BILLING CODE 4310-70-M